DEPARTMENT OF COMMERCE

National Oceanic and Atmospheric Administration

RIN 0648-XE654

Pacific Fishery Management Council; Public Meeting

AGENCY: National Marine Fisheries Service (NMFS), National Oceanic and Atmospheric Administration (NOAA), Commerce.

ACTION: Notice; public meeting.

SUMMARY: The Pacific Fishery Management Council's (Pacific Council) Ad hoc Sacramento River Winter Chinook Workgroup (SRWCW) will hold a webinar, which is open to the public, to discuss progress on development of potential harvest control rule options.

DATES: The webinar will be held on Wednesday, June 15, from 1:30 p.m. until business for the day is complete.

ADDRESSES: To attend the webinar, visit: http://www.gotomeeting.com/online/webinar/join-webinar. Enter the Webinar ID, which is 131-571-715, and your name and email address (required). After logging in to the webinar, please: Dial this TOLL number +1 (562) 247-8422 (not a toll-free number), enter the Attendee phone audio access code 684-586-345, and then enter your audio phone pin (shown after joining the webinar). Participants are encouraged to use their telephone, as this is the best practice to avoid technical issues and excessive feedback. (See http://www.pcouncil.org/wp-content/uploads/PFMC_Audio_Diagram_GoToMeeting.pdf). System Requirements for PC-based attendees: Required: Windows® 7, Vista, or XP; for Mac®-based attendees: Required: Mac OS® X 10.5 or newer; and for mobile attendees: iPhone®, iPad®, Android™ phone or Android tablet (See the GoToMeeting Webinar Apps). You may send an email to kris.kleinschmidt@noaa.gov or contact him at (503) 820-2280, extension 425 for technical assistance. A public listening station will also be provided at the Pacific Council office.

Council address: Pacific Council, 7700 NE Ambassador Place, Suite 101, Portland, OR 97220-1384.

FOR FURTHER INFORMATION CONTACT: Mr. Mike Burner, Pacific Council; telephone: (503) 820-2414.

SUPPLEMENTARY INFORMATION: The SRWCW will discuss progress on the development of new indicators and predictors of Sacramento River winter Chinook ocean abundance, review methods for evaluating the relative risks and benefits of alternative harvest control rules, prepare a report for the Council's June 2016 meeting, and discuss future meeting plans.

Although nonemergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2280, extension 425 at least 5 days prior to the meeting date.

Dated: May 25, 2016.
Tracey L. Thompson,
Acting Deputy Director, Office of Sustainable Fisheries, National Marine Fisheries Service.

[FR Doc. 2016-12715 Filed 5-27-16; 8:45 am]

BILLING CODE 3510-22-P